DEPARTMENT OF AGRICULTURE

Forest Service

Wallowa-Whitman National Forest, Oregon; Powder River Watershed Mining Plans

AGENCY: Forest Service, USDA.

ACTION: Notice of intent to prepare an Environmental Impact Statement.

SUMMARY: The USDA Forest Service will prepare an Environmental Impact Statement (EIS) to process and respond to the mining Plans of Operations within the Powder River Watershed submitted to the Whitman Ranger District of the Wallowa-Whitman National Forest.

DATES: Written comments concerning the scope of the analysis must be received by April 23, 2018. The draft EIS is expected July 2018, and the final EIS is expected December 2018.

ADDRESSES: Send written comments and suggestions to Jeff Tomac, Whitman District Ranger, Wallowa-Whitman National Forest, 1550 Dewey Ave., Suite A, Baker City, OR 97814. Comments may also be sent via email to comments-pacificnorthwest-wallowa-whitman-whitmanunit@fs.fed.us.

FOR FURTHER INFORMATION CONTACT: Sophia Millar, Interdisciplinary Team Leader, Wallowa-Whitman National Forest, Whitman Ranger District, 1550 Dewey Ave., Suite A, Baker City, OR 97814, Phone: (541) 263-1735.

Individuals who use telecommunication devices for the deaf (TDD) may call the Federal Information Relay Service (FIRS) at 1-800-877-8339 between 8 a.m. and 8 p.m., Eastern Time, Monday through Friday.

SUPPLEMENTARY INFORMATION: Per the General Mining Law of 1872, the miner is entitled to conduct operations that are reasonably incident to exploration and development of mineral deposits on its mining claims pursuant to applicable U.S. laws and regulations and is asserting its right under the General Mining Law to develop, mine, and remove the mineral deposit subject to regulatory laws.

Purpose and Need

The purpose and need for action is to (1) respond to the proposed Plans of Operations (Plans) to conduct mining activities within the Powder River watershed; (2) ensure that the selected alternative, where feasible, would minimize adverse environmental impacts on National Forest System (NFS) surface resources; and (3) ensure that measures would be included that provide for reclamation of the surface disturbance.

Proposed Action

The Powder River Watershed Mining Plans analysis area is located on the Whitman Ranger District of the Wallowa-Whitman National Forest, approximately 14 miles southwest of Baker City, Oregon. The decision area will cover 22 proposed mining Plans within the Powder River Watershed, an analysis area encompassing approximately 126,831 acres of NFS lands in Baker County. Typically, each project would disturb and reclaim an area of approximately 1-10 acres annually.

This EIS will evaluate each of the 22 Plans and propose additional operational requirements for some or all of the Plans. The final Record of Decision (ROD) would identify which Plans will be approved, and any specific Plans that require further action prior to Plan approval.

Once the ROD is signed and issued, reclamation bonds and any 401 certifications deemed necessary to be consistent with the Clean Water Act would be presented to the Forest Service before the Plans are approved. PACFISH (which amended the WWNF Forest Plan in 1995) Minerals Management standard #1 requires a reclamation plan and reclamation bond for mineral operations in riparian habitat conservation areas (RHCAs).

Responsible Official

The Whitman District Ranger, Jeff Tomac, will be the responsible official for making the decision and providing direction for the analysis.

Nature of Decision To Be Made

The responsible official will decide whether or not to move forward with approving specific mining Plans within the Powder River Watershed Mining Plans analysis area. The responsible official will also decide whether or not to select the proposed action as stated or modified, or to select an alternative to it; any mitigation measures needed; and any monitoring that may be required.

Preliminary Issues

The interdisciplinary team has conducted field surveys and data research to identify preliminary issues of concern with this proposal. The primary concern is the potential for sediment or heavy metal discharges into streams from mining operations, potentially impacting water quality, and Endangered Species Act-listed bull trout and bull trout habitat (pools and temperature). Based on these preliminary issues and the level of activity proposed at some sites, there is the potential for significant impacts to some resources, therefore an EIS fits the scope of this analysis rather than an Environmental Assessment.

Scoping Process

This notice of intent initiates the scoping process, which guides the development of the EIS. Public participation is especially important at several points during the development of the EIS. The Forest Service is seeking information, comments, and coordination with Federal, State, and local agencies, and tribal governments, individuals or organizations who may be interested in or affected by the proposed action. The most useful comments to developing or refining the proposed action would be site-specific concerns and those that pertain to authorizing mining activities within the Powder River Watershed Mining Plans analysis area that meet the purpose of and need for action.

It is important that reviewers provide their comments at such times and in such manner that they are useful to the agency's preparation of the EIS. Therefore, comments should be provided prior to the close of the comment period and should clearly articulate the reviewer's concerns and contentions.

Comments received in response to this solicitation, including names and addresses of those who comment, will be part of the public record for this proposed action and will be available for public inspection.

Authority: 40 CFR 1501.7 and 1508.22; Forest Service Handbook 1909.15, Section 21).

Dated: February 16, 2018.
Glenn P. Casamassa,
Associate Deputy Chief, National Forest System.

[FR Doc. 2018-06002 Filed 3-22-18; 8:45 am]

BILLING CODE 3411-15-P